DEPARTMENT OF THE INTERIOR

Fish and Wildlife Service

Information Collection Sent to the Office of Management and Budget (OMB) for Approval Under the Paperwork Reduction Act; 1018-0127; Horseshoe Crab Tagging Program

AGENCY: Fish and Wildlife Service, Interior.

ACTION: Notice; request for comments.

SUMMARY: We (Fish and Wildlife Service) have sent a request to OMB for approval of our information collection associated with the horseshoe crab tagging program. The OMB control number for this collection is 1018-0127, which expires on November 30, 2005. We have requested that OMB approve this information collection for a 3-year term.

DATES: You must submit comments on or before December 5, 2005.

ADDRESSES: Send your comments and suggestions on this information collection to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 N. Fairfax Drive, Arlington, VA 22203 (mail); Hope_Grey@fws.gov (e-mail); or (703) 358-2269 (fax).

FOR FURTHER INFORMATION CONTACT: To request a copy of the information collection, related forms, or explanatory material, contact Hope Grey, Information Collection Clearance Officer, at the addresses above or by telephone at (703) 358-2482.

SUPPLEMENTARY INFORMATION: On June 10, 2005, OMB approved our emergency request for information collection associated with the horseshoe crab tagging program. The supporting statement for our emergency request is available online at http://www.fws.gov/pdm/0127SupCurrent.pdf. OMB regulations at 5 CFR 1320, which implement provisions of the Paperwork Reduction Act of 1995 (44 U.S.C. 3501 et seq.), require that interested members of the public and affected agencies have the opportunity to comment on information collection and recordkeeping activities (see 5 CFR 1320.8(d)). Federal agencies may not conduct or sponsor and a person is not required to respond to a collection of information unless it displays a currently valid OMB control number.

On August 3, 2005, we published in the Federal Register (70 FR 44677) a notice of our intent to request information collection authority from OMB. In that notice, we solicited comments for 60 days, ending on October 3, 2005. We received comments from one individual. The commenter did not address the necessity, clarity, or accuracy of the information collection, but did oppose the use of horseshoe crabs by biomedical companies and proposed a ban on the use of horseshoe crabs for any purpose. We have not made any changes to our information collection as a result of the comment.

Horseshoe crabs are among the world's oldest creatures. People have used this evolutionary survivor for centuries. It plays an important role in the ecology of the coastal ecosystem, while over time also providing the opportunity for commercial, recreational, medical, scientific, and educational uses.

In 1998, the Atlantic States Marine Fisheries Commission (ASMFC), a management organization with representatives from each State on the Atlantic Coast, developed a horseshoe crab management plan. The ASMFC plan and its subsequent addenda established mandatory State-by-State harvest quotas, and created the 1,500 square mile Carl N. Shuster, Jr. Horseshoe Crab Sanctuary off the mouth of the Delaware Bay. Active management and innovative techniques used by fishermen to conserve bait have successfully reduced commercial horseshoe crab landings in recent years. Conch and eel fishermen have been using bait bags in their traps, so they can only use a portion of one crab per trap, compared to using a whole crab in each trap. The bait bags have reduced the demand for bait by 50 to 75 percent in recent years.

Although restrictive measures have been taken in recent years, populations are not showing immediate increases. Because horseshoe crabs do not breed until they reach 9 or more years of age, it may take some time before the population measurably increases. Recently a Horseshoe Crab Cooperative Tagging Program was established to monitor this species. Horseshoe crabs are tagged and released by cooperating Federal and State agencies, universities, and biomedical companies. Agencies that tag and release horseshoe crabs complete the Horseshoe Crab Tagging Release Form (FWS Form 3-2311) and provide the following data to the Service: organization name, contact person name, tag number, sex of crab, prosomal width, capture site, latitude, longitude, waterbody, State, and date.

Through public participants who recover tagged crabs, we collect the following information using FWS Form 3-2310 (Horseshoe Crab Recapture Report): tag number, whether or not tag was removed, whether or not the tag was circular or square, condition of crab, date captured/found, crab fate, finder type, capture method, capture location, reporter information, and comments. If the public participant who reports the tagged crab requests information, we send data pertaining to the tagging program, and tag and release information on the horseshoe crab he/she found or captured. The information collected is stored at the Maryland Fishery Resources Office, Fish and Wildlife Service, and used to evaluate migratory patterns, survival, and abundance of horseshoe crabs.

Title: Horseshoe Crab Tag Tagging Program.

OMB Control Number: 1018-0127.

Form Number: FWS Forms 3-2310 and 3-2311.

Frequency: When horseshoe crabs are tagged and when horseshoe crabs are found or captured.

Description of Respondents: Tagging agencies include Federal and State agencies, universities, and biomedical companies. Members of the general public provide recapture information.

Total Annual Responses: Approximately 1,510.

Total Annual Burden Hours: 980 hours.

We again invite comments concerning this submission on: (1) Whether or not the collection of information is necessary for the proper performance of the functions of the agency, including whether or not the information will have practical utility; (2) the accuracy of our estimate of the burden of collection of information; (3) ways to enhance the quality, utility, and clarity of the information to be collected; and (4) ways to minimize the burden of the collection of information on respondents.

Dated: October 18, 2005.
Hope G. Grey,
Information Collection Clearance Officer, Fish and Wildlife Service.

[FR Doc. 05-21945 Filed 11-2-05; 8:45 am]

BILLING CODE 4310-55-P